DEPARTMENT OF HEALTH AND HUMAN SERVICES

Administration for Children and Families

Submission for OMB Review; Comment Request

Title: Data Collection Plan for the Customer Satisfaction Evaluation of Child Welfare Information Gateway.

OMB No.: 0970-0303.

Description: The National Clearinghouse on Child Abuse and Neglect Information (NCCAN) and the National Adoption Information Clearinghouse (NAIC) received OMB approval to collect data for a customer satisfaction evaluation under OMB control number 0970-0303. On June 20, 2006, NCCAN and NAIC were consolidated into Child Welfare Information Gateway (CWIG). In response to this consolidation, the proposed information collection activities include revisions to the Customer Satisfaction Evaluation approved under OMB control number 0970-0303.

CWIG is a service of the Children's Bureau, a component within the Administration for Children and Families, and CWIG is dedicated to the mission of connecting professionals and concerned citizens to information on programs, research, legislation, and statistics regarding the safety, permanency, and well-being of children and families. CWIG's main functions are identifying information needs, locating and acquiring information, creating information, organizing and storing information, disseminating information, and facilitating information exchange among professionals and concerned citizens. A number of vehicles are employed to accomplish these activities, including, but not limited to, Web site hosting, discussions with customers, and dissemination of publications (both print and electronic).

The Customer Satisfaction Evaluation was initiated in response to Executive Order 12862 issued on September 11, 1993. The order calls for putting customers first and striving for a customer-driven government that matches or exceeds the best service available in the private sector.

To that end, CWIG's evaluation is designed to better understand the kind and quality of services customers want, as well as customers' level of satisfaction with existing services. The proposed data collection activities for the evaluation include customer satisfaction surveys, customer comment cards, selected publication surveys, and focus groups.

Respondents: Child Welfare Information Gateway Customers

Annual Burden Estimates
Instrument | Number of respondents | Number of responses per respondent | Average burden hours per response | Total burden hours
Customer Satisfaction Survey—Website Delivery | 1,545 | 16 | .0048 | 118.7
Customer Satisfaction on Survey—Email Delivery | 29 | 14 | .0048 | 1.9
Customer Satisfaction Survey—Print Delivery | 31 | 14 | 0048 | 2.1
Customer Satisfaction Survey—Phone Delivery | 171 | 14 | .0063 | 15.1
Comment Card | 264 | 3 | .0048 | 3.8
Selected Publications Survey | 85 | 11 | .0048 | 4.5
Focus Group Guide | 28 | 16 | .0625 | 28

Estimated Total Annual Burden Hours: 174.1.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: February 1, 2008.
Janean Chambers,
Reports Clearance Officer.

[FR Doc. 08-531 Filed 2-6-08; 8:45 am]

BILLING CODE 4184-01-M